DEPARTMENT OF AGRICULTURE

Forest Service

Sequoia National Forest, Western Divide Ranger District; California; Tule River Reservation Protection Project

AGENCY: Forest Service, USDA.

ACTION: Notice of intent to prepare an environmental impact statement.

SUMMARY: The proposed project is to reduce surface and ladder fuels on approximately 1,574 acres by constructing fuel breaks, treating planted stands, and prescribed burning between planted stands and fuel breaks. The purpose of the project is to respond to a proposal from the Tule River Tribal Council under the Tribal Forest Protection Act and to reduce the spread of wildland fire starting on the Sequoia National Forest or private lands onto the Tule River Indian Reservation.

DATES: Comments concerning the scope of the analysis must be received by Wednesday, September 24, 2008. The draft environmental impact statement is expected June 2009 and the final environmental impact statement is expected November 2009.

ADDRESSES: Send written comments to Priscilla Summers, District Ranger, Western Divide Ranger District, 32588 Hwy 190, Springville, CA 93265.

FOR FURTHER INFORMATION CONTACT: Teresa Sue, Planner, Western Divide Ranger District, 32588 Hwy 190, Springville, CA 93265.

SUPPLEMENTARY INFORMATION: In July 2004, Congress passed the Tribal Forest Protection Act (Act). The Act was in response to devastating wildfires that started on Federal lands and crossed onto adjacent Tribal lands. The Act provides a tool for tribes to propose work that will reduce the threat of fires starting on Federal lands from spreading onto trust lands for Indian tribes. The Act allows tribes to enter into contracts and agreements with the U.S. Forest Service or Bureau of Land Management to accomplish the work.

In October 2005, the Tule River Tribal Council submitted a project proposal to the Forest Supervisor of the Sequoia National Forest under the authority of the Tribal Forest Protection Act of 2004. The Pacific Southwest Regional Forester granted authority to work with the Tule River Tribal Council on their proposal. This project is the first under this authority. Subsequent projects will be analyzed separately.

Purpose and Need for Action

To respond to the proposal from the Tule River Tribal Council under the Tribal Forest Protection Act and to reduce the risk of wildland fire starting on the Sequoia National Forest or private lands from spreading onto the Tule River Indian Reservation by reducing surface and ladder fuels.

Proposed Action

The proposed action is to reduce surface and ladder fuels on approximately 1,574 acres along the northern boundary between the Sequoia National Forest,Giant Sequoia National Monument, and the Tule River Indian Reservation. The proposed action includes the construction of shaded fuel breaks along ridgelines, private land, and roads; the reduction of fuels in planted stands by thinning, limbing and removing brush; disposal of resulting fuels by pile and burning, jackpot burning, or utilizing biomass as commercial and/or personal fuel; and prescribed burn between planted stands and shaded fuel breaks.

Responsible Official

Tina Terrell, Forest Supervisor, Sequoia National Forest, 1839 South Newcomb Street, Porterville, CA 93257.

Nature of Decision To Be Made

The decision to be made is whether or not to approve the fuels reduction project as described. The decision will not include a Forest Plan Amendment.

Scoping Process

Public participation will be especially important at several points during the analysis. The Forest Service will be seeking information, comments, and assistance from Federal, State, and local agencies and other individuals or organizations interested in or affected by the proposed action.

The comment period on the proposed action will extend 30 days from the date the Notice of Intent is published in the Federal Register.

The draft environmental impact statement is expected to be filed with the Environmental Protection Agency (EPA) and to be available for public review by June 2009. EPA will publish a notice of availability of the draft EIS in the Federal Register. The comment period on the draft EIS will extend 45 days from the date the EPA notice appears in the Federal Register. At that time, copies of the draft EIS will be distributed to interested and affected agencies, organizations, and members of the public for their review and comment. It is very important that those interested in the Tule River Reservation Protection Project participate at that time.

The final EIS is scheduled to be completed in November 2009. In the final EIS, the Forest Service is required to respond to substantive comments received during the comment period that pertain to the environmental consequences discussed in the draft EIS and applicable laws, regulations, and policies considered in making the decision. Substantive comments are defined as “comments within the scope of the proposed action, specific to the proposed action, and have a direct relationship to the proposed action, and include supporting reasons for the responsible official to consider” (36 CFR 215.2). Submission of substantive comments is a prerequisite for eligibility to appeal under the 36 CFR part 215 regulations.

Comment Requested

This notice of intent initiates the scoping process which guides the development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (ED. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21).

Dated: August 18, 2008.
Tina J. Terrell,
Forest Supervisor.

[FR Doc. E8-19621 Filed 8-25-08; 8:45 am]

BILLING CODE 3410-11-M